DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Trademark Trial and Appeal Board (TTAB) Actions.

Form Number(s): PTO 2120, 2151, 2153, and 2188 through 2190.

Agency Approval Number: 0651-0040.

Type of Request: Revision of a currently approved collection.

Burden: 14,423 hours annually.

Number of Respondents: 71,743 responses per year, with an estimated 61,900 responses filed electronically.

Avg. Hours per Response: The USPTO estimates that it will take the public between 10 to 30 minutes (0.17 to 0.50 hours) to provide this information, depending upon the request. This includes the time to gather the necessary information, prepare the petitions, notices, extensions, or additional papers, and submit the completed request to the USPTO. The USPTO estimates that it will take the same amount of time (and possibly less time) to gather the necessary information, prepare the submission, and submit it electronically as it does to submit the information in paper form.

Needs and Uses: Individuals or entities who believe that they would be damaged by the registration of a mark may file an opposition to the registration of that mark, or an extension of time to file an opposition, under Section 13 of the Trademark Act, 15 U.S.C. 1063. If a mark is successfully opposed, registration will not take place. Section 14 of the Trademark Act, 15 U.S.C. 1064, allows individuals and entities, who believe that they are or will be damaged by the registration of a mark, to file a petition to cancel the registration of that mark.

Individuals or entities may file an appeal from any final decision of the Trademark Examining Attorney assigned to review an application for registration of a mark under Section 20 of the Trademark Act, 15 U.S.C. 1070.

These petitions, notices, extensions, and additional papers are filed with the Trademark Trial and Appeal Board (TTAB), an administrative tribunal empowered to determine the right to register as the issue may be presented in such cases.

There are no paper forms associated with this collection. However, this collection does contain two suggested formats and six electronic forms that are available through the Electronic System for Trademark Trials and Appeals (ESTTA).

Affected Public: Businesses, other for-profits, and non-profit institutions.

Frequency: On occasion.

Respondent's Obligation: Required to obtain or retain benefits.

OMB Desk Officer: Nicholas A. Fraser, e-mail: Nicholas_A_Fraser@omb.eop.gov.

Once submitted, the request will be publicly available in electronic format through the Information Collection Review page at http://www.reginfo.gov.

Paper copies can be obtained by:

• E-mail: InformationCollection@uspto.gov. Include “0651-0040 copy request” in the subject line of the message.

• Fax: 571-273-0112, marked to the attention of Susan K. Fawcett.

• Mail: Susan K. Fawcett, Records Officer, Office of the Chief Information Officer, United States Patent and Trademark Office, P.O. Box 1450, Alexandria, VA 22313-1450.

Written comments and recommendations for the proposed information collection should be sent on or before February 23, 2011 to Nicholas A. Fraser, OMB Desk Officer, via e-mail to Nicholas_A_Fraser@omb.eop.gov or by fax to 202-395-5167, marked to the attention of Nicholas A. Fraser.

Dated: January 19, 2011.
Susan K. Fawcett,
Records Officer, USPTO, Office of the Chief Information Officer.

[FR Doc. 2011-1343 Filed 1-21-11; 8:45 am]

BILLING CODE 3510-16-P